NATIONAL AERONAUTICS AND SPACE ADMINISTRATION

[Notice 02-062]

NASA Advisory Council, Space Science Advisory Committee, Astronomical Search for Origins and Planetary Systems Subcommittee

AGENCY: National Aeronautics and Space Administration (NASA).

ACTION: Notice of meeting.

SUMMARY: In accordance with the Federal Advisory Committee Act, Public Law 92-463, as amended, the National Aeronautics and Space Administration announces a forthcoming meeting of the NASA Advisory Council (NAC), Space Science Advisory Committee (SScAC), Astronomical Search for Origins and Planetary Systems Subcommittee (OS).

DATES: Thursday, June 6, 2002, 8:30 a.m. to 5:30 p.m., and Friday, June 7, 2002, 8:30 a.m. to 5:30 p.m.

ADDRESSES: NASA Headquarters, Conference Room 5H46, 300 E Street, SW, Washington, DC 20546.

FOR FURTHER INFORMATION CONTACT: Ms. Marian Norris, Code SB, National Aeronautics and Space Administration, Washington, DC 20546, (202) 358-4452.

SUPPLEMENTARY INFORMATION: The meeting will be open to the public up to the capacity of the room. The agenda for the meeting includes the following topics:

• OSS Budget

• Origins Update

• Starlight Update

• Terrestrial Planet Finder Update

• SOFIA Data Cycle System Update

• Origins Roadmap Review

• Origins Government Performance and Results Act Review

• Astronomy and Physics Working Group Report

• Space Archives Working Group Report

It is imperative that the meeting be held on these dates to accommodate the scheduling priorities of the key participants. Visitors will be requested to sign a visitor's register.

Dated: May 15, 2002.
Sylvia K. Kraemer,
Advisory Committee Management Officer, National Aeronautics and Space Administration.

[FR Doc. 02-12691 Filed 5-20-02; 8:45 am]

BILLING CODE 7510-01-P